DEPARTMENT OF COMMERCE

National Oceanic and Atmospheric Administration

[I.D. 110606B]

Caribbean Fishery Management Council; Public Meeting

AGENCY: National Marine Fisheries Service (NMFS), National Oceanic and Atmospheric Administration (NOAA), Commerce.

ACTION: Notice of the St. Croix EEZ Working Group meeting.

SUMMARY: The Caribbean Fishery Management Council's St. Croix EEZ Working Group will hold a meeting.

DATES: The St. Croix EEZ Working Group meeting will be held on November 15, 2006, from 6 p.m. to 10 p.m., approximately.

ADDRESSES: The meeting will be held at the Bucanneer Hotel, 5007 Estate Shoys, Lot 7, St. Croix, USVI 00820.

FOR FURTHER INFORMATION CONTACT: Caribbean Fishery Management Council, 268 Munoz Rivera Avenue, Suite 1108, San Juan, Puerto Rico 00918, telephone (787) 766-5926.

SUPPLEMENTARY INFORMATION: The St. Croix EEZ Working Group will meet to discuss the items contained in the following agenda:

Adoption of Agenda

Review of Summary Minutes October 10, 2006 Meeting

Selection of Suggested Preferred Alternatives to be Presented at the Next Council Meeting

Other Business

Next Meeting

Special Accomodations

The meeting is physically accessible to people with disabilities. For more information or request for sign language interpretation and/other auxiliary aids, please contact Mr. Miguel A. Rolon, Executive Director, Caribbean Fishery Management Council, 268 Munoz Rivera Avenue, Suite 1108, San Juan, Puerto Rico, 00918, telephone (787) 766-5926, at least five days prior to the meeting date.

Dated: November 6, 2006.
Tracey L. Thompson,
Acting Director, Office of Sustainable Fisheries, National Marine Fisheries Service.

[FR Doc. E6-19037 Filed 11-8-06; 8:45 am]

BILLING CODE 3510-22-S